DEPARTMENT OF JUSTICE

Office of Justice Programs

[OJP (NIJ) Docket No. 1715]

Publication of Offender Tracking System Standard, NIJ Standard-1004.00, and Request for Expressions of Interest From Manufacturers and Conformity Assessment Bodies

AGENCY: National Institute of Justice, Justice.

ACTION: Notice.

SUMMARY: The National Institute of Justice (NIJ) announces publication of Offender Tracking System Standard, NIJ Standard-1004.00. The document can be found here: https://www.ncjrs.gov/pdffiles1/nij/249810.pdf. NIJ is currently exploring strategies for conformity assessment of offender tracking systems in accordance with this new standard. Manufacturers interested in testing their products for conformance to the new standard are invited to review the standard and provide an expression of interest to the point of contact listed below. Likewise, conformity assessment bodies, such as laboratories, certification bodies, inspection bodies, and accreditation bodies, interested in participating in conformity assessment activities are invited to review the standard and provide an expression of interest to the point of contact listed below. Any feedback regarding this standard should also be directed to the point of contact listed below. For more information about NIJ standards, please visit http://nij.gov/standards.

FOR FURTHER INFORMATION CONTACT: Jack Harne, by telephone at (202) 598-9412 [Note: this is not a toll-free telephone number], or by email at jack.harne@usdoj.gov.

Nancy Rodriguez,
Director, National Institute of Justice.

[FR Doc. 2016-16760 Filed 7-14-16; 8:45 am]

BILLING CODE 4410-18-P